FEDERAL COMMUNICATIONS COMMISSION

[PS Docket No. 22-217; DA-22-592; FR ID 91708]

Communications Assistance for Law Enforcement Act, Electronic Filing of System Security and Integrity Policies and Procedures Documents

AGENCY: Federal Communications Commission.

ACTION: Notice.

SUMMARY: In this document, the Public Safety and Homeland Security Bureau of the Federal Communications Commission (the FCC or Commission), seeks comment on the forthcoming launch of the Communications Assistance for Law Enforcement Act (CALEA) electronic filing system (CEFS) for certain required filings for telecommunications providers and the proposal to make electronic filing mandatory six months after CEFS becomes active.

DATES: Submit comments on or before July 22, 2022, and reply comments are due on or before August 8, 2022.

ADDRESSES: You may submit comments, identified by PS Docket No. 22-217, by any of the following methods:

• Federal Communications Commission's Website: https://apps.fcc.gov/ecfs/. Follow the instructions for submitting comments.

• Mail: Parties who choose to file by paper must file an original and one copy of each filing. If more than one docket or rulemaking number appears in the caption of this proceeding, filers must submit two additional copies for each additional docket or rulemaking number. Filings can be sent by commercial overnight courier, or by first-class or overnight U.S. Postal Service mail. All filings must be addressed to the Commission's Secretary, Office of the Secretary, Federal Communications Commission. Commercial overnight mail (other than U.S. Postal Service Express Mail and Priority Mail) must be sent to 9050 Junction Drive, Annapolis Junction, MD 20701. U.S. Postal Service first-class, Express, and Priority mail must be addressed to 45 L Street NE, Washington, DC 20554.

• People With Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Rosemary Cabral, Attorney Advisor, Policy and Licensing Division, Public Safety and Homeland Security Bureau, at (202) 418-0662 or Rosemary.Cabral@fcc.gov; or Chris Fedeli, Attorney Advisor, Public Safety and Homeland Security Bureau at 202-418-1514 or Christopher.Fedeli@fcc.gov.

SUPPLEMENTARY INFORMATION: This is a summary of the Commission's June 1, 2022, Public Notice, PS Docket No. 22-217, DA 22-592 announcing the upcoming launch of the Communications Assistance for Law Enforcement Act (CALEA) electronic filing system (CEFS) for required filings for telecommunications providers.

The full text of this document is available at https://www.fcc.gov/document/calea-electronic-filing-system.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People With Disabilities: To request materials in accessible formats for people with disabilities (braille, large print, electronic files, audio format), send an email to fcc504@fcc.gov or call the Consumer & Governmental Affairs Bureau at 202-418-0530 (voice), 202-418-0432 (TTY).

The proceeding this Public Notice initiates shall be treated as a “permit-but-disclose” proceeding in accordance with the Commission's ex parte rules, 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

In this document, the Federal Communications Commission (the FCC or Commission), Public Safety and Homeland Security Bureau, announces its plan to make electronic filing available for CALEA System Security and Integrity Policies and Procedures documents (SSI Plans), which must be filed by all covered providers, and must be updated whenever there is a change in those SSI Plans or following a merger or divestiture. SSI Plans are confidential filings that have been traditionally filed by paper with the Commission. In the Public Notice, the Commission describes the planned CALEA Electronic Filing System (CEFS), and provides details about how confidential SSI Plan filing via CEFS will work. We ask members of the public for comment about the CEFS, and we specifically ask for comment on our proposal to make electronic filing mandatory of SSI Plans instead of paper filing, and the timing of this requirement starting six months after CEFS is made available for voluntary filing. Commenters suggesting proposed alternatives should explain the basis for their proposals.

Initial Regulatory Flexibility Certification

The Regulatory Flexibility Act of 1980, as amended (RFA), requires that a regulatory flexibility analysis be prepared for notice-and-comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concerns” under the Small Business Act. A “small business concern” is one that: (1) is independently owned and operated; (2) is not dominant in its field of operation; and (3) satisfies any additional criteria established by the Small Business Administration (SBA). Accordingly, the Public Safety and Homeland Security Bureau (Bureau) has prepared this Initial Regulatory Flexibility Certification (IRFC) certifying that the rules and policies proposed in the Public Notice will not have a significant economic impact on a substantial number of small entities.

In 1994, Congress enacted the Communications Assistance for Law Enforcement (CALEA), Public Law 103-414, 108 Stat. 4279 to define the statutory obligations of telecommunications carriers to assist law enforcement in executing electronic surveillance pursuant to court order or other lawful authorization. Congress amended the Communications Act of 1934 to add Sections 229(b) and (c) to facilitate compliance and FCC oversight of the requirements of CALEA. CALEA is intended to preserve the ability of law enforcement agencies to conduct electronic surveillance while protecting the privacy of information outside the scope of the investigation. CALEA requires that telecommunications carriers and manufacturers of telecommunications equipment design their equipment, facilities, and services to ensure that they have the necessary surveillance capabilities to comply with legal requests for information. Communications services and facilities utilizing Circuit Mode equipment, packet mode equipment, facilities-based broadband internet access providers and providers of interconnected Voice over internet Protocol (VoIP) service are all subject to CALEA. These compliance requirements include wireless services, routing and soft switched services, and internet-based telecommunications present in applications used by telecommunications devices.

Telecommunications carriers must file and maintain up-to-date System Security and Integrity (SSI) plans with the Commission, as those plans are described in 47 CFR 1.20005. This information includes a description of how the service provider complies with CALEA, and carrier contact information. Such information is not disclosed to the public. This information collection has been approved by the Office of Management and Budget, control number 3060-0809.

In this Public Notice, we propose to modernize the Commission's procedures governing the filing of CALEA SSI plans that telecommunications carriers must follow to submit their plans for Commission review. Presently, CALEA SSI plans are filed in paper. We propose to require telecommunications carriers to submit CALEA SSI plans electronically in the CALEA Electronic Filing System (CEFS). We also propose that mandatory filing begin six months after the Bureau announces the availability of CEFS for voluntary filing. We believe these proposals will provide telecommunications carriers certainty and streamline the process for filing CALEA SSI plans.

The entities subject to the proposed electronic filing requirement are new telecommunications carriers and telecommunications carriers that must update their SSI plans, and consequently, the streamlined filing process we propose in the Public Notice are specific to those entities and their obligations under CALEA. Moreover, the electronic filing process does not impose increased reporting burdens on telecommunications carriers, including small businesses; nor do we expect the electronic filing process to result in increased costs for such businesses. The new electronic database will reduce paperwork and the time burden on small entities. The CEFS presents a public-facing web form containing data entry fields for collection of key portions of the required data that will help ensure filers supply necessary information in their SSI Plans. The use of the web form and electronic filing will reduce the time burden imposed on small entities when deficient paper SSI plans must be returned to filers for correction. The automated CEFS for SSI Plan submission replaces a cumbersome and space-consuming paper process, streamlines the review process using a web-based checklist system, and enhances recordkeeping and retrieval capabilities for small entities.

Consequently, there will not be a significant economic impact on a substantial number of small entities. Therefore, we certify that the proposed requirements in the Public Notice will not have a significant economic impact on a substantial number of small entities. The Public Notice and this initial certification will be sent to the Chief Counsel for Advocacy of the SBA and will be published in the Federal Register.

Federal Communications Commission.
David L. Furth,
Deputy Chief.

[FR Doc. 2022-13264 Filed 6-21-22; 8:45 am]

BILLING CODE 6712-01-P